DEPARTMENT OF THE INTERIOR

Bureau of Land Management

[CO-921-06-1320-EL; COC 67232]

Notice of Competitive Coal Lease Offering By Sealed Bid, Colorado

AGENCY: Bureau of Land Management, Interior.

ACTION: Notice of Competitive Coal Lease Sale, Lease Application COC 67232.

SUMMARY: Notice is hereby given that the United States Department of the Interior, Bureau of Land Management (BLM), Colorado State Office, will offer certain coal resources in the B, D/E seams in Gunnison County, Colorado, hereinafter described as Federal coal lease application (LBA) COC 67232 for competitive lease by sealed bid in accordance with the provisions for competitive lease sales in 43 CFR 3422.2(a), and the Mineral Leasing Act of 1920, as amended and supplemented (30 U.S.C. 181 et seq.).

DATES: The lease sale will be held at 11 a.m., Wednesday, January 24, 2007. Sealed bids must be sent by certified mail, return receipt requested, or be hand delivered to the address indicated below, and must be received on or before 10 a.m., Wednesday, January 24, 2007. The cashier will issue a receipt for each hand delivered sealed bid. Any bid received after the time specified will not be considered and will be returned. The outside of the sealed envelope containing the bid must clearly state that the envelope contains a bid for Coal Lease Sale COC 67232, and is not to be opened before the date and hour of the sale.

ADDRESSES: The lease sale will be held in the BLM, Colorado State Office, Conference Room, Fourth Floor, 2850 Youngfield Street, Lakewood, Colorado. Sealed bids must be submitted, hand delivered or mailed to the Cashier, BLM Colorado State Office, 2850 Youngfield Street, Lakewood, Colorado 80215.

FOR FURTHER INFORMATION CONTACT: Karen Zurek at BLM Colorado State Office, 2850 Youngfield Street, Lakewood, Colorado 80215 or telephone 303-239-3795.

SUPPLEMENTARY INFORMATION: The coal resource to be offered consists of all recoverable coal reserves to be mined by underground mining methods in the following lands:

T. 13 S., R. 90 W., 6th P.M.

Sec. 35, lots 5 through 7, inclusive, and lots 9 through 16, inclusive, except lands embraced in coal leases C-1362 and COC 56447, as modified;

Sec. 36, W½SW¼NW¼, and W½SW¼, except lands embraced in coal lease COC 56447, as modified.

T. 14 S., R. 90 W., 6th P.M.

Sec. 1, lots 3, 4, S½NW¼, SW¼, W½NW¼SE¼, and SW¼SE¼;

Sec. 2, lots 1 through 4, inclusive, S½N½, and S½;

Sec. 11, N½N½;

Sec. 12, N½NW¼, and NW¼NE¼.

Containing approximately 1,517.13 acres in Gunnison County, Colorado.

Total recoverable reserves are estimated to be 17.3 million tons. The underground mineable coal is ranked as high volatile B bituminous coal. Although other seams are included in the application, only the B and D/E seams are considered mineable. The estimated coal quality on an as-received basis for the B and D/E Seams are as follows:

B Seam:
BTU | 11,886 BTU/lb.
Volatile Matter | 35.80%
Moisture | 8.50%
Fixed Carbon | 47.00%
Sulfur Content | 0.62%
Ash Content | 8.56%
D/E Seam:
BTU | 11,726 BTU/lb
Moisture | 10.45%
Sulfur Content | 0.46%
Ash Content | 6.62%

The tract will be leased to the qualified bidder of the highest cash amount, provided that the high bid meets the fair market value (FMV) for the tract as determined by the authorized officer after the Sale. The Department of the Interior has established a minimum bid of $100 per acre or fraction thereof for Federal coal tracts. The minimum bid is not intended to represent FMV. In the event identical high sealed bids are received, the tying high bidders will be requested to submit follow-up bids until a high bid is received. All tie-breaking sealed bids must be submitted within 15 minutes following the Sale Official's announcement at the sale that identical high bids have been received.

The lease issued as a result of this offering will provide for payment of an annual rental of $3.00 per acre or fraction thereof and a royalty payable to the United States of 8 percent of the value of coal mined by underground methods. The value of the coal will be determined in accordance with 30 CFR 206.250.

Bidding instructions for the offered tract are included in the Detailed Statement of Coal Lease Sale. Copies of the Detailed Statement and the proposed coal lease are available upon request in person or by mail from the Colorado State Office at the address given above. The case file is available for inspection in the Public Room, Colorado State Office, during normal business hours at the address given above.

Karen Zurek,
Solid Minerals Staff, Division of Energy, Lands and Minerals.

[FR Doc. E6-20913 Filed 12-7-06; 8:45 am]

BILLING CODE 4310-JB-P